DEPARTMENT OF TRANSPORTATION

Maritime Administration

[Docket No. MARAD-2010-0001]

Requested Administrative Waiver of the Coastwise Trade Laws; Correction

AGENCY: Maritime Administration, Department of Transportation.

ACTION: Notice; correction.

SUMMARY: On January 15, 2010, the Maritime Administration published notice of administrative waiver of the coastwise trade laws. There was an inadvertent error in the docket number. The correct docket number, MARAD-2010-0001, heads this document.

DATES: Comments received will still be considered on or before February 16, 2010.

ADDRESSES: Comments should refer to docket number MARAD-2010-0001. Written comments may be submitted by hand or by mail to the Docket Clerk, U.S. Department of Transportation, Docket Operations, M-30, West Building Ground Floor, Room W12-140, 1200 New Jersey Avenue, SE., Washington, DC 20590. You may also send comments electronically via the Internet at http://www.regulations.gov. All comments will become part of this docket and will be available for inspection and copying at the above address between 10 a.m. and 5 p.m., E.T., Monday through Friday, except Federal holidays. An electronic version of this document and all documents entered into this docket is available on the World Wide Web at http://www.regulations.gov.

FOR FURTHER INFORMATION CONTACT: Joann Spittle, U.S. Department of Transportation, Maritime Administration, 1200 New Jersey Avenue, SE., Room W21-203, Washington, DC 20590. Telephone 202-366-5979.

SUPPLEMENTARY INFORMATION: As authorized by 46 U.S.C. 12121, the Secretary of Transportation, as represented by the Maritime Administration (MARAD), is authorized to grant waivers of the U.S.-build requirement of the coastwise laws under certain circumstances. A request for such a waiver has been received by MARAD. The vessel, and a brief description of the proposed service, are listed below. The complete application is given in DOT docket MARAD-2010-0001 at http://www.regulations.gov.

As described by the applicant the intended service of the vessel BELLISSIMO is:

Intended Commercial Use of Vessel: “Carrying passengers (maximum 6 guest) for pleasure trips of one day to one week.”

Geographic Region: “Florida, Georgia, South Carolina, North Carolina, Virginia, Maine, Maryland, Delaware, New Jersey, New York, Rhode Island, Massachusetts, Louisiana, Alabama, Mississippi.”

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78).

Dated: January 19, 2010.
By Order of the Maritime Administrator.
Christine Gurland,
Secretary, Maritime Administration.

[FR Doc. 2010-1593 Filed 1-26-10; 8:45 am]

BILLING CODE 4910-81-P